COMMITTEE FOR THE IMPLEMENTATION OF TEXTILE AGREEMENTS

Determination under the African Growth and Opportunity Act

August 29, 2002.

AGENCY: Committee for the Implementation of Textile Agreements (CITA).

ACTION: Determination.

SUMMARY: The Committee for the Implementation of Textile Agreements (CITA) has determined that handloomed fabric and handmade articles made from such handloomed fabric that are produced in Kenya qualify for duty-free treatment under the African Growth and Opportunity Act.

EFFECTIVE DATE: September 5, 2002.

FOR FURTHER INFORMATION CONTACT: Anna Flaaten, International Trade Specialist, Office of Textiles and Apparel, U.S. Department of Commerce, (202) 482-3400.

SUPPLEMENTARY INFORMATION: The African Growth and Opportunity Act (Title I of the Trade and Development Act of 2000, Pub. L. No. 106-2000) (AGOA) provides duty-free treatment for imports of certain textile and apparel products of beneficiary sub-Saharan African countries, including handloomed, handmade, or folklore articles that are certified as such by the competent authorities of the beneficiary country. Section 2 of Executive Order 13191 of January 17, 2001 authorized CITA to consult with beneficiary countries and to determine which particular textile and apparel goods shall be treated as being handloomed, handmade, or folklore articles.

On January 18, 2001, the United States Trade Representative directed the U.S. Customs Service to require that importers provide an appropriate export visa from a beneficiary sub-Saharan African country to obtain preferential treatment for textiles and apparel under the AGOA (66 FR 7837). The first digit of the visa number corresponds to one of nine groupings of textile and apparel products that are eligible for preferential tariff treatment. Grouping 9 is for handmade, handloomed, or folklore articles.

CITA held consultations with the Government of Kenya on May 21, 2002. CITA has determined that handloomed fabrics and handmade articles made from such handloomed fabrics produced in and exported from Kenya are eligible for preferential tariff treatment under section 112(a) of the AGOA if accompanied by an AGOA export visa for Grouping 9 issued by the Government of Kenya. In the letter published below, CITA directs the Commissioner of Customs to allow entry of such products of Kenya under Harmonized Tariff Schedule provision 9819.11.27, when accompanied by an appropriate export visa. CITA may extend this treatment to additional products following future consultation with the Government of Kenya.

D. Michael Hutchinson,
Acting Chairman, Committee for the Implementation of Textile Agreements.

Committee for the Implementation of Textile Agreements

August 29, 2002.

Commissioner of Customs,

Department of the Treasury, Washington, DC 20229.

Dear Commissioner: The Committee for the Implementation of Textiles Agreements (CITA), pursuant to Sections 112(a) of the African Growth and Opportunity Act (Title I of Pub. L. No. 106-200) (AGOA) and Executive Order 13101 of January 17, 2001, has determined that, effective on September 5, 2002, handloomed fabric produced in Kenya and handmade articles produced in Kenya from such handloomed fabric shall be treated as being handloomed, handmade, or folklore articles under the AGOA, and that an export visa issued by the Government of Kenya for Grouping 9 is a certification by the Government of Kenya that the article is handloomed, handmade, or folklore. CITA directs you to permit duty-free entry of such articles accompanied by the appropriate visa and entered under heading 9819.11.27 of the Harmonized Tariff Schedule of the United States.

Sincerely,

D. Michael Hutchinson,

Acting Chairman, Committee for the Implementation of Textile Agreements.

[FR Doc. 02-22582 Filed 9-4-02; 8:45 am]

BILLING CODE 3510-DR-S